DEPARTMENT OF THE INTERIOR

Bureau of Land Management

[WO-230-1020-PB-24 1A]

Submission to Office of Management and Budget—Information Collection, OMB Control Number 1004-0058

AGENCY: Bureau of Land Management, Interior.

ACTION: Notice and request for comments.

SUMMARY: In accordance with the Paperwork Reduction Act of 1995, the Bureau of Land Management (BLM) has submitted a request for an extension of an approved information collection to the Office of Management and Budget (OMB) for approval.

DATES: The OMB is required to respond to this request within 60 days but may respond after 30 days. Submit your comments to OMB at the address below by February 20, 2007 to receive maximum consideration.

ADDRESSES: Send comments to the OMB, Interior Department Desk Officer (1004-0058), at OMD-OIRA e-mail OIRA_DOCKET@omb.eop.gov or via facsimile at (202) 395-6566. Also please send a copy of your comments to BLM via Internet and include your name, address, and ATTN: 1004-0058 in your Internet message to comments_washington@blm.gov or via mail to: U.S. Department of the Interior, Bureau of Land Management, Mail Stop 401LS, 1849 C Street, NW., ATTN: Bureau Information Collection Clearance Officer (WO-630), Washington, DC 20240.

FOR FURTHER INFORMATION CONTACT: You may contact Shirlean Beshire to obtain copies and explanatory material on this information collection at (202) 452-5033. Persons who use a telecommunication device for the deaf (TDD) may call the Federal Information Relay Service (FIRS) on 1-800-877-8330, 24 hours a day, seven days a week, to contact Ms. Beshir.

SUPPLEMENTARY INFORMATION: On March 6, 2006, the BLM published a notice in the Federal Register (71 FR 11222) requesting comments on the information collection. The comment period closed on May 5, 2006. The BLM did not receive any comments. We are soliciting comments on the following:

(a) Whether the collection of information is necessary for the proper functioning of the agency, including whether the information will have practical utility.

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title: Timber Export Reporting and Substitution Determination (43 CFR part 5420)

OMB Control Number: 1004-0058.

Abstract: The BLM manages and sells timber located on the revested Oregon and California Railroad and the reconveyed Coos Bay Wagon Road Grant Lands under the authority of the Act of August 28, 1937 (50 Stat. 875, 43 U.S.C. 1181e). Under the Act of July 31, 1947, as amended (61 Stat. 681, 30 U.S.C. 601 et seq.), BLM also manages and sells timber located on other lands under our jurisdiction. The Department of the Interior and Related Agencies Appropriation Acts of 1975 and 1976 contained a requirement for the inclusion of provisions in timber sale contracts that will ensure that unprocessed timber sold from public lands under the jurisdiction of the BLM will not be exported or used by the purchasers as a substitute for timber they export or sell for export. The regulations at 43 CFR part 5400, Sales of Forest Products, General, cover these provisions.

Timber purchasers or their afiliates must submit the information listed at 43 CFR 5424.1(a) using Form 5460-17, Substitution Determination. We collect the purchaser's name, timber contract number, processing facility lcoation, total volume of Federal timber purchased on an annual basis, total volume of private timber exported on an annual basis, and method of measuring the volume. The regulation at 43 CFR 5424.1(b) requires that the purchasers or affiliates retain a record of Federal timber acquisitions and private timber exports for three years from the date the activity occurred. BLM uses this information to determine if there was a substitution of Federal timber for exported private timber in violation of 43 CFR 5400.0-3(c).

Burden Estimate Per Form: We estimate it takes 1 hour to complete Form 5460-17 and is submitted on occasion to the BLM by the private sector.

Annual Responses: 1.

Application Fee Per Response: 0.

Annual Burden Hours: 1.

Dated: January 11, 2007.
Ted R. Hudson,
Bureau of Land Management, Acting Division Chief Regulatory Affairs.

[FR Doc. 07-166 Filed 1-17-07; 8:45 am]

BILLING CODE 4310-84-M